DEPARTMENT OF HOMELAND SECURITY

Coast Guard

[Docket No. USCG-2009-0271]

Towing Safety Advisory Committee; Meetings

AGENCY: Coast Guard, DHS.

ACTION: Notice of meetings.

SUMMARY: The Towing Safety Advisory Committee (TSAC) and its working groups on the Revision of Navigation and Vessel Inspection Circular (NVIC) 04-01, and on the Clarification of Current Licensing Regulations pertaining to Apprentice Mates (Steersmen) will meet in Dania Beach, FL. The Committee will also discuss various issues relating to shallow-draft inland and coastal waterway navigation and towing safety. All meetings will be open to the public.

DATES: The working groups will meet on Wednesday, May 6, 2009, from 8 a.m. to 5 p.m. The full TSAC Committee will meet on, Thursday, May 7, 2009, from 8 a.m. to 3 p.m. These meetings may close early if all business is finished. Written material and requests to make oral presentations at the meetings should reach the Coast Guard on or before April 24, 2009. Requests to have a copy of your material distributed to each member of the Committee or working groups should reach the Coast Guard electronically on or before April 24, 2009.

ADDRESSES: The working groups and TSAC will meet at the American Maritime Officers STAR Center; 2 West Dixie Highway, Dania Beach, FL 33004; Phone: 954-921-7254. TSAC is utilizing the Ft. Lauderdale International Airport (FLL) which is nearby.

Send written material and requests to make oral presentations to TSAC's Assistant Designated Federal Officer (ADFO) in the FOR FURTHER INFORMATION CONTACT section below. This notice is available on the Internet at http://www.regulations.gov under the docket number USCG-2009-0271.

FOR FURTHER INFORMATION CONTACT: Mr. Gerald P. Miante, ADFO, TSAC; U.S. Coast Guard Headquarters, CG-5221, Room 1210; 2100 Second Street, SW., Washington, DC 20593-0001. Telephone (202) 372-1401, fax (202) 372-1926, or e-mail at: Gerald.P.Miante@uscg.mil.

SUPPLEMENTARY INFORMATION: Notice of these meetings is given under the Federal Advisory Committee Act, 5 U.S.C. App. (Pub. L. 92-463).

Agenda of Meetings

NVIC 04-01 Working Group. The agenda for the working group is to discuss possible revisions to NVIC 04-01, Licensing and Manning for Officers of Towing Vessels, including the enclosures on the Towing Officer Assessment Records (TOARs). The current version of the NVIC can be viewed at http://www.uscg.mil/hq/g-m/nvic/index00.htm#2001.

Working Group for Clarification of Current Licensing Regulations pertaining to Apprentice Mates (Steersmen). In the wake of the recent collision between the towing vessel Mel Oliver and tanker Tintomara, TSAC will study and clarify current regulations and develop Best Practices for Apprentice Mates/Steersman Training Programs.

Towing Safety Advisory Committee. The tentative agenda for the Committee is as follows:

(1) Update of the Towing Vessel Inspection Working Group;

(2) Update on Commercial/Recreational Boating Interface;

(3) Report on the Review and Recommendations for the Revision of NVIC 4-01 “Licensing and Manning for Officers of Towing Vessels;”

(4) Report on the Review and Recommendations for the Clarification of Current Licensing Regulations pertaining to Apprentice Mates (Steersmen);

(5) Update on National Maritime Center (NMC) activities;

(6) Presentation on Automatic Identification System/Advance Notice of Arrival (AIS/ANA);

(8) Presentation on the Transportation Worker Identification Credential (TWIC); and

(9) Presentation on Bridging Strategy and Towing Vessel Center of Expertise.

Procedural

All meetings are open to the public. Please note that the meetings may close early if all business is finished. At the Chair's discretion, members of the public may make oral presentations during the meetings. If you would like to make an oral presentation at a meeting, please notify the ADFO no later than April 24, 2009. Written material (20 copies) for distribution at a meeting should reach the Coast Guard no later than April 24, 2009. If you would like a copy of your material distributed to each member of the Committee or Working Groups in advance of a meeting, please submit it electronically to the ADFO, for e-mail distribution, no later than April 24, 2009. Also at the Chair's discretion, members of the public may present comment at the end of the Public Meeting. Please understand that the Committee's schedule may be quite demanding and time for public comment may be limited.

Information on Services for Individuals With Disabilities

For information on facilities or services for individuals with disabilities or to request special assistance at the meetings, contact the ADFO as soon as possible.

Dated: April 9, 2009.
J.G. Lantz,
Director of Commercial Regulations and Standards.

[FR Doc. E9-8615 Filed 4-14-09; 8:45 am]

BILLING CODE 4910-15-P